DEPARTMENT OF JUSTICE

Drug Enforcement Administration

[Docket No. DEA-392]

Bulk Manufacturer of Controlled Substances Application: Sigma Aldrich Research

ACTION: Notice of application.

DATES: Registered bulk manufacturers of the affected basic classes, and applicants therefore, may file written comments on or objections to the issuance of the proposed registration on or before August 12, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 7, 2019, Sigma Aldrich Research, Biochemicals, Inc., 400-600 Summit Drive, Burlington, Massachusetts 01803 applied to be registered as a bulk manufacturer of the following basic classes of controlled substances:

Controlled substance | Drug code | Schedule
Cathinone | 1235 | I
Mephedrone (4-Methyl-N-methylcathinone) | 1248 | I
Lysergic acid diethylamide | 7315 | I
Tetrahydrocannabinols | 7370 | I
3,4-Methylenedioxymethamphetamine | 7405 | I
Alpha-methyltryptamine | 7432 | I
Dimethyltryptamine | 7435 | I
5-Methoxy-N,N-diisopropyltryptamine | 7439 | I
N-Benzylpiperazine | 7493 | I
2-(2,5-Dimethoxyphenyl) ethanamine (2C-H) | 7517 | I
MDPV (3,4-Methylenedioxypyrovalerone) | 7535 | I
Methylone (3,4-Methylenedioxy-N-methylcathinone) | 7540 | I
Heroin | 9200 | I
Normorphine | 9313 | I
Norlevorphanol | 9634 | I
Amphetamine | 1100 | II
Nabilone | 7379 | II
Phencyclidine | 7471 | II
Cocaine | 9041 | II
Codeine | 9050 | II
Ecgonine | 9180 | II
Levorphanol | 9220 | II
Meperidine | 9230 | II
Methadone | 9250 | II
Morphine | 9300 | II
Thebaine | 9333 | II
Levo-alphacetylmethadol | 9648 | II
Noroxymorphone | 9668 | II
Remifentanil | 9739 | II
Sufentanil | 9740 | II
Carfentanil | 9743 | II
Fentanyl | 9801 | II

The company plans to manufacture reference standards.

Dated: June 3, 2019.
John J. Martin,
Assistant Administrator.

[FR Doc. 2019-12503 Filed 6-12-19; 8:45 am]

BILLING CODE 4410-09-P